DEPARTMENT OF JUSTICE

Notice of Lodging of Consent Decree Under Comprehensive Environmental Response, Compensation and Liability Act

Under 28 CFR 50.7, notice is hereby given that on August 18, 2005, a proposed Consent Decree in United States v. Novelis Corporation, Civil No. 05-1046, was lodged with the United States District Court for the Northern District of New York.

This action concerns the Pollution Abatement Services, Inc. Superfund Site in Oswego, New York and the Fulton Terminals Sites in Fulton, New York (Sites). In this action, the United States asserted claims against Novelis Corporation under Section 107(a) of the Comprehensive Environmental Response, Compensation and Liability Act (CERCLA), 42 U.S.C. 9607(a), for recovery of response costs incurred regarding the Sites. The proposed consent decree embodies an agreement with Novelis to pay $572,000 of EPA's past response costs. The decree provides Alcan with a covenant not to sue under Section 107(a) of CERCLA.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Novelis Corporation, D.J. No. 90-11-2-2/4.

The Consent Decree may be examined at the Office of the United States Attorney for the Northern District of New York, 445 Broadway, Albany, NY 12207, and at the Region II Office of the U.S. Environmental Protection Agency, Region II Records Center, 290 Broadway, 17th Floor, New York, NY 10007-1866. During the public comment period, the Consent Decree also may be examined on the following Department of Justice Web site, http://www.usdoj.gov/enrd/open.html. A copy of the Consent Decree also may be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $3.75 (25 cents per page reproduction cost) payable to the U.S. Treasury.

Ronald G. Gluck,
Assistant Section Chief, Environmental Enforcement Section, Environment and Natural Resources Division.

[FR Doc. 05-17374 Filed 8-31-05; 8:45 am]

BILLING CODE 4411-15-M